ENVIRONMENTAL PROTECTION AGENCY

[FRL-7661-9]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held May 25-27, 2004 at the Hotel Washington, Washington, DC. The CHPAC was created to advise the Environmental Protection Agency on science, regulations, and other issues relating to children's environmental health.

DATES: The Science and Regulatory Work Groups will meet Tuesday May 25; Plenary sessions will take place Wednesday May 26 and Thursday May 27, 2004.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science and Regulatory Work Groups will meet Tuesday May 25 9 a.m. to 5 p.m. The plenary CHPAC will meet on Wednesday, May 26th 9 a.m. to 5 p.m., with a public comment period at 4:45 p.m., and on Thursday, May 27th from 9 am to 12:30 p.m.

The plenary session will open with introductions and a review of the agenda and objectives for the meeting. Agenda items include highlights of the Office of Children's Health Protection (OCHP) activities and a presentation on the National Children's Study. Other potential agenda items include a presentation on lead in drinking water and EPA activities concerning children's health in schools.

Dated: May 5, 2004.
Joanne K. Rodman,
Designated Federal Official.

Children's Health Protection Advisory Committee

Hotel Washington, 515 15th Street, NW., Washington, DC 20004-1099

May 25-27, 2004

Tuesday, May 25, 2004

Work Group Meetings

Wednesday, May 26, 2004

Plenary Session

9:00—Welcome, Introductions, Review Meeting Agenda

9:15—Highlights of Recent OCHP Activities

9:45—Presentation: National Children's Study

10:45—Break

11:00—Science Workgroup Report

12:00—Lunch (on your own)

1:30—Science Workgroup Report [continued]

2:30—Regulatory Work Group Report

3:15—Break

3:45—Presentation: Lead in Drinking Water

4:45—Public Comment

5:00—Adjourn

Thursday, May 27, 2004

9:00—Discussion of Day One

9:15—Presentation: Schools

10:30—Break

10:45—Discuss and Agree on Recommendation Letters and Other Action Items

12:15—Wrap Up/Next Steps

12:30—Adjourn Plenary

[FR Doc. 04-10984 Filed 5-13-04; 8:45 am]

BILLING CODE 6560-50-P